DEPARTMENT OF COMMERCE

National Oceanic and Atmospheric Administration

RIN: 0648-XX63

New England Fishery Management Council; Public Meeting

AGENCY: National Marine Fisheries Service (NMFS), National Oceanic and Atmospheric Administration (NOAA), Commerce

ACTION: Notice; public meeting.

SUMMARY: The New England Fishery Management Council (Council) is scheduling a public meeting of its Scallop Committee, in August, 2010, to consider actions affecting New England fisheries in the exclusive economic zone (EEZ). Recommendations from this group will be brought to the full Council for formal consideration and action, if appropriate.

DATES: This meeting will be held on Wednesday, August 11, 2010 at 9 a.m.

ADDRESSES: This meeting will be held at the Four Points Sheraton, 407 Squire Road, Revere, MA 02151; telephone: (781) 284-7200; fax: (781) 289-3176.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will discuss several outstanding issues related to Amendment 15. For example, a possible restriction for permits that de-stack, a measure to address possible overages of yellowtail flounder catch in 2010 in the scallop fishery, and further clarifications about new monitoring requirements for annual catch limits in the scallop fishery. The Committee will review preliminary input from six Amendment 15 public hearings that were held in mid-July. There will also be a presentation on the results from the recent scallop assessment (SAW 50). The Committee will review input from the Scallop Advisory Panel related to the development of Framework 22 measures and other issues.

Lastly, the Committee will discuss whether the Council should consider modifying the existing Scallop Advisory Panel and separate it into two panels - one primarily focused on issues relevant to the limited access scallop fishery, and a second panel primarily focused on limited access general category issues. If time permits the Committee may discuss other issues.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: July 14, 2010.
William D. Chappell,
Acting Director, Office of Sustainable Fisheries, National Marine Fisheries Service.

[FR Doc. 2010-17525 Filed 7-16-10; 8:45 am]

BILLING CODE 3510-22-S